DEPARTMENT OF COMMERCE

Office of the Secretary

Estimates of the Voting Age Population for 2008

AGENCY: Office of the Secretary, Commerce.

ACTION: General Notice Announcing Population Estimates.

SUMMARY: This notice announces the voting age population estimates, as of July 1, 2008, for each state and the District of Columbia. We are providing this notice in accordance with the 1976 amendment to the Federal Election Campaign Act, Title 2, United States Code, Section 441a(e).

FOR FURTHER INFORMATION CONTACT: Enrique Lamas, Chief, Population Division, U.S. Census Bureau, Room HQ-5H174, Washington, DC 20233, at (301) 763-2071.

SUPPLEMENTARY INFORMATION: Under the requirements of the 1976 amendment to the Federal Election Campaign Act, Title 2, United States Code, Section 441a(e), I hereby give notice that the estimates of the voting age population for July 1, 2008, for each state and the District of Columbia are as shown in the following table.

Estimates of the Population of Voting Age for Each State and the District of Columbia: July 1, 2008
Area | Population 18 and over | Area | Population 18 and over
United States | 230,117,876
Alabama | 3,540,023 | Missouri | 4,490,136
Alaska | 506,417 | Montana | 747,082
Arizona | 4,792,959 | Nebraska | 1,336,437
Arkansas | 2,152,909 | Nevada | 1,932,366
California | 27,392,136 | New Hampshire | 1,022,451
Colorado | 3,732,321 | New Jersey | 6,635,079
Connecticut | 2,689,039 | New Mexico | 1,481,906
Delaware | 666,863 | New York | 15,082,281
District of Columbia | 479,817 | North Carolina | 6,978,737
Florida | 14,324,069 | North Dakota | 498,433
Georgia | 7,136,903 | Ohio | 8,755,533
Hawaii | 1,002,955 | Oklahoma | 2,736,326
Idaho | 1,111,176 | Oregon | 2,922,485
Illinois | 9,722,303 | Pennsylvania | 9,686,275
Indiana | 4,792,111 | Rhode Island | 822,248
Iowa | 2,289,942 | South Carolina | 3,413,573
Kansas | 2,101,649 | South Dakota | 605,885
Kentucky | 3,261,181 | Tennessee | 4,736,294
Louisiana | 3,302,823 | Texas | 17,601,203
Maine | 1,041,589 | Utah | 1,886,789
Maryland | 4,293,014 | Vermont | 492,340
Massachusetts | 5,070,934 | Virginia | 5,945,888
Michigan | 7,613,224 | Washington | 5,008,049
Minnesota | 3,965,749 | West Virginia | 1,428,310
Mississippi | 2,171,898 | Wisconsin | 4,313,555
|  | Wyoming | 404,211

I have certified these counts to the Federal Election Commission.

Dated: January 12, 2009.
Carlos M. Gutierrez,
Secretary, U.S. Department of Commerce.

[FR Doc. E9-1687 Filed 1-26-09; 8:45 am]

BILLING CODE 3510-07-P